ENVIRONMENTAL PROTECTION AGENCY

[EPA-HQ-OCFO-2023-0531; FRL-12523-01-OMS]

Agency Information Collection Activities; Submission to the Office of Management and Budget for Review and Approval; Comment Request; Environmental Justice Thriving Communities Grantmaking (TCGM) Program: Applications for Subawards, Public Outreach Information Collections, and Post-Award Reporting (New)

AGENCY: Environmental Protection Agency (EPA).

ACTION: Notice.

SUMMARY: The Environmental Protection Agency (EPA) has submitted an information collection request (ICR), Environmental Justice Thriving Communities Grantmaking (TCGM) Program: Applications for Subawards, Public Outreach Information Collections, and Post-Award Reporting (EPA ICR Number 2795.01, OMB Control Number 2035-NEW) to the Office of Management and Budget (OMB) for review and approval in accordance with the Paperwork Reduction Act. This is a request for approval of a new collection. Public comments were previously requested via the Federal Register on January 8, 2024 during a 60-day comment period. This notice allows for an additional 30 days for public comments.

DATES: Comments may be submitted on or before January 27, 2025.

ADDRESSES: Submit your comments, referencing Docket ID Number EPA-HQ-OEJECR-2023-0531, to EPA online using www.regulations.gov (our preferred method), by email to Docket_OMS@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Aarti Iyer, Office of the Chief Financial Officer, Environmental Protection Agency, 1200 Pennsylvania Ave. NW, Washington, DC 20460; email address: iyer.aarti@epa.gov; phone: 202-564-0214.

SUPPLEMENTARY INFORMATION: This is a request for approval of a new collection. An agency may not conduct or sponsor, and a person is not required to respond to, a collection of information unless it displays a currently valid OMB control number.

Public comments were previously requested via the Federal Register on January 8, 2024 during a 60-day comment period (89 FR 916). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Abstract: To meet the goals and objectives that demonstrate the U.S. Environmental Protection Agency (EPA's) and the Administration's commitment to achieving environmental justice and embedding environmental justice into Agency programs, the Environmental Justice Thriving Communities Grantmaking Program provides about $600 million in 11 cooperative agreements funding to “Grantmakers” who will function as pass-through entities for the Environmental Justice Thriving Communities Subgrants (2 CFR parts 200 and 1500). Each Grantmaker will collaborate with EPA to design and build their own processes to receive and evaluate applications to fund the development of community-led environmental justice projects. With this Information Collection Request (ICR), EPA seeks approval for the Grantmakers to (a) solicit application for subawards and (b) to collect reports from recipients of subawards to track their progress. Collection of this information is essential for Grantmakers to select and distribute the subawards, and to assess and manage the funded projects, which ensures responsible stewardship of public funds; rigorous evidence-based learning and improvement; and transparent accountability to the American public. This ICR also requests approval for the Grantmakers to collect input and insights from communities who seek to obtain technical assistance services, as well as stakeholders who have valuable experience and expertise in community engagement and empowerment. These information collections via (c) surveys and (d) focus groups will enable the Centers to document local priorities, needs, and norms to ensure that they develop useful and relevant technical assistance and training services. Furthermore, feedback about these services will enable the Centers to conduct self-assessments to identify best practices and areas for improvement.

Form Numbers: None.

Respondents/affected entities: Recipients of financial assistance subawards from Grantmakers, community members, stakeholders.

Respondent's obligation to respond: Mandatory for recipients of subawards to obtain or retain a benefit (2 CFR parts 200 and 1500). Voluntary for public outreach information collection via surveys and focus groups.

Estimated number of respondents: 295,638 (per year).

Frequency of response: Varies.

Total estimated burden: 237,049 hours (per year). Burden is defined at 5 CFR 1320.03(b).

Total estimated cost: $10,845,779 (per year), including $338,342 annualized capital or operation & maintenance costs.

Changes in the Estimates: This is a new collection, and so does not involve any program changes or burden adjustments.

Courtney Kerwin,
Director, Regulatory Support Division.

[FR Doc. 2024-30642 Filed 12-23-24; 8:45 am]

BILLING CODE 6560-50-P